DEPARTMENT OF THE INTERIOR

Bureau of Land Management

[OR-110-2824-AF; HAG01-0311]

Emergency Travel Restrictions for Motorized and Mechanized Vehicles on Roads, Trails and Public Lands Within the Area Recently Burned in the Quartz Fire, Jackson County, OR

AGENCY: Bureau of Land Management, Ashland Resource Area, Medford District, Interior.

ACTION: Notice.

SUMMARY: Notice is hereby given that all motorized and mechanized travel is prohibited on roads, trails, and public lands in the area recently burned in the Quartz Fire. The affected land is located southwest of Ashland, Oregon in Jackson County. The action is necessary for public safety while restoration and rehabilitation activities are being conducted and to prevent additional resource damage.

This prohibition includes the following roads and public lands:

All roads and public lands within T. 39 S., R. 2 W., Sections 34, 35, and 36; and T. 40 S., R. 2 W., Sections 2 and 3, as designated on the Map titled “Quartz Fire Restricted Area”, prepared by the Bureau of Land Management and dated August 30, 2001.

This action is in accordance with the provisions found in 43 CFR 8364.1, which provides for closures and restrictions to protect persons, property, and public lands and resources.

EFFECTIVE DATES: The prohibition will become effective upon the publication of this notice in the Federal Register and will remain in effect for a period of three years unless rescinded.

SUPPLEMENTARY INFORMATION: Persons who are exempt from the prohibition include (1) any federal, state, or local officers engaged in fire, emergency and law enforcement activities; (2) BLM employees and contractors engaged in official duties; (3) persons authorized to travel on designated routes by the Ashland Resource Area Field Manager.

Penalties: The authority for this closure is found under section 303(a) of the Federal Land Policy and Management Act of 1976 (43 U.S.C. 1733 (a); 43 CFR 8364.1 and 43 CFR 8360-7. Any person who violates this closure may be tried before a United States Magistrate and fined no more than $1000.00 or imprisoned for no more than 12 months or both. Such violations may also be subject to the enhanced fines provided in 18 U.S.C. 3571.

ADDRESSES: Field Office Manager, Ashland Field Office, Bureau of Land Management, 3040 Biddle Road, Medford, Oregon 97504.

FOR FURTHER INFORMATION CONTACT: John Samuelson, (541) 618-2313.

Dated: September 5, 2001.
Richard J. Drehobl,
Field Manager, Ashland Resource Area.

[FR Doc. 01-25173 Filed 10-5-01; 8:45 am]

BILLING CODE 4310-33-P